NUCLEAR REGULATORY COMMISSION

[NRC-2020-0119]

Information Collection: NRC Form 149, “OCFO Invitational Traveler Request Form”

AGENCY: Nuclear Regulatory Commission.

ACTION: Notice of submission to the Office of Management and Budget; request for comment.

SUMMARY: The U.S. Nuclear Regulatory Commission (NRC) has recently submitted a proposed collection of information to the Office of Management and Budget (OMB) for review. The information collection is entitled, NRC Form 149, “OCFO Invitational Traveler Request Form.”

DATES: Submit comments by February 1, 2021. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2020-0119 when contacting the NRC about the availability of information for this action. You may obtain publicly available information related to this action by any of the following methods:

• Federal Rulemaking Website: Go to https://www.regulations.gov and search for Docket ID NRC-2020-0119. A copy of the collection of information and related instructions may be obtained without charge by accessing Docket ID NRC-2020-0119 on this website.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The supporting statement and NRC Form 149 are available in ADAMS under Accession Nos. ML20338A229 and ML20338A228, respectively.

• Attention: The PDR, where you may examine and order copies of public documents is currently closed. You may submit your request to the PDR via email at pdr.resource@nrc.gov or call 1-800-397-4209 between 8:00 a.m. and 4:00 p.m. (EST), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

The NRC encourages electronic comment submission through the Federal Rulemaking Website (https://www.regulations.gov). Please include Docket ID NRC-2020-0119 in your comment submission.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a proposed collection of information to OMB for review entitled, NRC Form 149, “OCFO Invitational Traveler Request Form.” The NRC hereby informs potential respondents that an agency may not conduct or sponsor, and that a person is not required to respond to, a collection of information unless it displays a currently valid OMB control number.

The NRC published a Federal Register notice with a 60-day comment period on this information collection on September 3, 2020, 85 FR 55033.

1. The title of the information collection: NRC Form 149, “OCFO Invitational Traveler Request Form.”

2. OMB approval number: An OMB control number has not yet been assigned to this proposed information collection.

3. Type of submission: New.

4. The form number if applicable: NRC Form 149.

5. How often the collection is required or requested: The collection is required when there is an invitational traveler that will be reimbursed by the NRC. This occurs on an as needed basis and does not have a regular schedule for submission.

6. Who will be required or asked to respond: The invitational traveler will be asked to respond and NRC staff that are associated with the purpose of the invitational traveler may also be asked to respond on an as needed basis.

7. The estimated number of annual responses: 250.

8. The estimated number of annual respondents: 250.

9. An estimate of the total number of hours needed annually to comply with the information collection requirement or request: 50 hours.

10. Abstract: The NRC provides reimbursement for people on invitational travel for the NRC. As such, the NRC would reimburse them through our Financial Accounting and Integrated Management Information System (FAIMIS). Additionally, the travel itself would be processed in our electronic travel systems (ETS2). Both the financial and travel systems must be set up appropriately for the invitational traveler to travel and receive reimbursement from the NRC. The information collected on Form 149 meets the requirements for the invitational traveler to have a profile created in FAIMIS and in ETS2. The information collected is necessary to meet the criteria for both systems.

Dated: December 28, 2020.
For the Nuclear Regulatory Commission.
David C. Cullison,
NRC Clearance Officer, Office of the Chief Information Officer.

[FR Doc. 2020-28957 Filed 12-30-20; 8:45 am]

BILLING CODE 7590-01-P